DEPARTMENT OF THE INTERIOR

Office of the Secretary

Notice of Proposed Information Collection

AGENCY: Office of the Special Trustee for American Indians.

ACTION: Notice and request for comments.

SUMMARY: A proposal to extend the collection of information listed below (OMB Control Number 1035-0004) has been submitted to the Office of Management and Budget (OMB) for approval under the provisions of the Paperwork Reduction Act (44 U.S.C. Chapter 35). Public comments on this submission are solicited.

DATES: OMB has up to 60 days to approve or disapprove the information collection, but may respond after 30 days. Therefore, public comments should be submitted to OMB by February 26, 2007, in order to be assured of consideration.

ADDRESSES: Send your written comments to the Office of Management and Budget, Office of Information and Regulatory Affairs, Attention, Department of the Interior Desk Officer, by fax to 202-395-6566, or by e-mail to oira_docket@omb.eop.gov. Please send a copy of your written comments to the Office of the Secretary Information Collection Clearance Officer, Sue Ellen Sloca, 1951 Constitution Avenue NW., MS 120 SIB, Washington, DC 20240, or via e-mail to sue_ellen_sloca@nbc.gov. Individuals providing comments should reference OMB Control Number 1035-0004, “Trust Funds for Tribes and Individual Indians, 25 CFR Part 115.”

FOR FURTHER INFORMATION CONTACT: To request more information on this proposed information collection or to obtain a copy of the proposal and associated collection instrument, please write to the above address, or call Sue Ellen Sloca, on 202-208-6045, or e-mail her on sue_ellen_sloca@nbc.gov.

SUPPLEMENTARY INFORMATION:

I. Abstract

Office of Management and Budget (OMB) regulations at 5 CFR 1320, which implement the Paperwork Reduction Act of 1995 (Pub. L. 104-13), require that interested members of the public and affected agencies have an opportunity to comment on information collection and recordkeeping activities (see 5 CFR 1320.8 (d)). This notice identifies an existing information collection activity that the Office of the Special Trustee for American Indians has submitted to OMB for extension.

Public Law 103-412, The American Indian Trust Fund Management Reform Act of 1994, makes provision for the Office of the Special Trustee for American Indians, within the Office of the Secretary, to administer trust funds on behalf of individual Indians and of Indian tribes. This information collection, which covers one form and four different non-form occasions on which the government is required by law to collect information from account holders and third parties with a legal interest in particular individual accounts, e.g., guardians of account holders who are minors, allows the Office of the Special Trustee to collect the information needed to establish and maintain trust accounts for individual Indians and Indian tribes. If this information were not collected, the Office of the Special Trustee would not be able to comply with The American Indian Trust Fund Management Reform Act of 1994, and the Office of the Special Trustee would not be able to carry out its fiduciary responsibilities to individual Indians and Indian tribes with respect to trust funds.

II. Data

(1) Title: Trust Funds for Tribes and Individual Indians, 25 CFR Part 115.

OMB Control Number: 1035-0004.

Current Expiration Date: 01/31/2007.

Type of Review: Information Collection: Renewal.

Affected Entities: Individuals or households. State, Local, and Tribal Governments.

Form-based information collection:

Estimated annual number of respondents: 302,065.

Frequency of response: 4 times per year.

Non-form information collections:

Estimated annual number of responses: 151,425.

Frequency of response: On occasion.

(2) Annual reporting and record keeping burden.

Form-base information collection:

Estimated number of responses annually: 1,208,260.

Estimated burden per response: ¼ hour.

Total annual reporting: 302,065 hours.

Non-form information collections:

Estimated number of responses annually: 151,425.

Estimated burden per response: Varies with collection.

Total annual reporting: 154,463 hours.

Total annual public burden: 456,528 hours.

(3) Description of the need and use of the information: The statutorily-required information is needed to provide the Office of the Special Trustee with a vehicle to collect the information needed to establish and maintain trust accounts for individual Indians and Indian tribes.

III. Request for Comments

An initial opportunity for the public to comment on the Office of the Secretary's proposal to extend this information collection was announced in the Federal Register on August 3, 2006. The Office of the Secretary received no comments in response to its 60-day notice and request for comments. The public now has a second opportunity to comment on this proposal.

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: January 23, 2007.
Ross O. Swimmer,
Special Trustee for American Indians.

[FR Doc. E7-1217 Filed 1-25-07; 8:45 am]

BILLING CODE 4310-2W-P